DEPARTMENT OF COMMERCE

Foreign-Trade Zones Board

[B-91-2013]

Foreign-Trade Zone 8—Toledo, Ohio; Authorization of Production Activity; Whirlpool Corporation, Subzone 8I, (Washing Machines), Clyde and Green Springs, Ohio

On October 17, 2013, Whirlpool Corporation submitted a notification of proposed production activity to the Foreign-Trade Zones (FTZ) Board for its facility within Subzone 8I, in Clyde and Green Springs, Ohio.

The notification was processed in accordance with the regulations of the FTZ Board (15 CFR part 400), including notice in the Federal Register inviting public comment (78 FR 64197, 10-28-2013). The FTZ Board has determined that no further review of the activity is warranted at this time. The production activity described in the notification is authorized, subject to the FTZ Act and the Board's regulations, including Section 400.14.

Dated: February 14, 2014.
Andrew McGilvray,
Executive Secretary.

[FR Doc. 2014-03901 Filed 2-21-14; 8:45 am]

BILLING CODE 3510-DS-P